DEPARTMENT OF HEALTH AND HUMAN SERVICES

Indian Health Service

Notice of Office of Urban Indian Health Programs Strategic Plan

AGENCY: Indian Health Service, Department of Health and Human Services.

ACTION: Notice and request for comments.

SUMMARY: Indian Health Service (IHS) has entered into a contract with the National Academy of Public Administration (the Academy) to assist in the development of a five-year strategic plan. Funding for this project was provided by Congress in the 2016 Consolidated Appropriations Act, which directs IHS to develop the plan in consultation with urban Indians and the Academy.

As part of this project, the Academy project team is in the process of conducting extensive outreach to IHS/Office of Urban Indian Health Programs (OUIHP) leadership and employees, as well as conferring with urban Indian organizations and other key external stakeholder groups. The final product will be a strategic plan to guide the work of the headquarters office of OUIHP, area urban coordinators, and urban Indian organizations participating in IHS programs. The strategic plan will be completed by the end of December 2016.

IHS is requesting input on the strategic planning process, the strengths and weaknesses of OUIHP, and the opportunities and threats facing the program. Comments will be used to help develop the mission, goals, objectives, and strategies to be included in the strategic plan.

DATES: Submit your input to the Academy no later than September 16, 2016. All comments submitted to the Academy are not for attribution.

Written Comments: Send input by email to UIOconfer@napawash.org with the subject line: UIHP Strategic Plan.

FOR FURTHER INFORMATION CONTACT: Pamela Haze, Project Director, National Academy of Public Administration, 1600 K St. NW., Suite 400, Washington, DC 20006, (201) 204-3682.

Dated: August 26, 2016.
Elizabeth A. Fowler,
Deputy Director for Management Operations, Indian Health Service.

[FR Doc. 2016-21485 Filed 9-6-16; 8:45 am]

BILLING CODE 4165-16-P